DEPARTMENT OF HOMELAND SECURITY

Federal Emergency Management Agency

[Docket ID: FEMA-2011-0034; OMB No. 1660-0086]

Agency Information Collection Activities: Proposed Collection; Comment Request; National Flood Insurance Program—Mortgage Portfolio Protection Program

AGENCY: Federal Emergency Management Agency, DHS.

ACTION: Notice.

SUMMARY: The Federal Emergency Management Agency, as part of its continuing effort to reduce paperwork and respondent burden, invites the general public and other Federal agencies to take this opportunity to comment on a proposed revision of a currently approved information collection. In accordance with the Paperwork Reduction Act of 1995, this notice seeks comments concerning the National Flood Insurance Program Mortgage Portfolio Protection program, which is an option that companies participating in the National Flood Insurance Program can use to bring their mortgage loan portfolios into compliance with the flood insurance purchase requirements. To participate in the Mortgage Portfolio Protection Program, the company must agree to adhere to certain guidelines and requirements in the implementation package published by the Associate Administrator for Federal Insurance and Mitigation Administration. The Write Your Own insurance company signs documentation noting they agree to adhere to these requirements.

DATES: Comments must be submitted on or before January 17, 2012.

ADDRESSES: To avoid duplicate submissions to the docket, please use only one of the following means to submit comments:

(1) Online. Submit comments at http://www.regulations.gov under Docket ID FEMA-2011-0034. Follow the instructions for submitting comments.

(2) Mail. Submit written comments to Docket Manager, Office of Chief Counsel, DHS/FEMA, 500 C Street SW., Room 835, Washington, DC 20472-3100.

(3) Facsimile. Submit comments to (703) 483-2999.

(4) Email. Submit comments to FEMA-POLICY@dhs.gov. Include Docket ID FEMA-2011-0034 in the subject line.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of http://www.regulations.gov.

FOR FURTHER INFORMATION CONTACT: Susan Bernstein, Program Analyst; Mitigation Directorate, (202) 212-2113 for additional information. You may contact the Records Management Division for copies of the proposed collection of information at facsimile number (202) 646-3347 or email address: FEMA-Information-Collections-Management@dhs.gov.

SUPPLEMENTARY INFORMATION: The National Flood Insurance Program (NFIP) is authorized in Public Law 90-448 (1968) and expanded by Public Law 93-234 (1973), and is codified as 42 U.S.C. 4001, et sec. Public Law 103-325 (1994) expands upon this and provides federally supported flood insurance for existing buildings exposed to flood risk. In accordance with Public Law 93-234, the purchase of flood insurance is mandatory when Federal or federally related financial assistance is being provided for acquisition or flood hazard areas of communities that are participating in the program.

The Mortgage Portfolio Protection program (MPPP) is an option that companies participating in the NFIP can use to bring their mortgage loan portfolios into compliance with the flood insurance purchase requirements of the three public laws described above. Section 62.23(l)(1) of Title 44 of the Code of Regulations (CFR), with 44 CFR Appendix A to Part 62 implements the MPPP requirements for specific notices and other procedures that must be adhered to. Insurance companies applying for or renewing their participation in the Write Your Own (WYO) program must indicate that they will adhere to the requirements of the MPPP if they are electing to voluntarily participate in the MPPP. Per 44 CFR 62.23(l)(2), WYO companies participating in the MPPP must provide a detailed implementation package, known as the Mortgage Portfolio Protection Program Agreement, to the lending companies who are requesting insurance coverage and the lender must acknowledge receipt.

Collection of Information

Title: National Flood Insurance Program—Mortgage Portfolio Protection Program.

Type of Information Collection: Revision of a currently approved information collection.

OMB Number: 1660-0086.

Form Titles and Numbers: None.

Abstract: A WYO company that wishes to participate in the MPPP must review the information listed in the MPPP Agreement and complete the acknowledgement to participate in the MPPP or elect to continue under just the WYO guidelines. A lender wishing to obtain flood insurance through a MPPP participating insurance company must review the Financial Assistance/Subsidy Arrangement and acknowledge the terms so that they can properly apply for flood insurance through this program.

Affected Public: Business or other non-profits.

Estimated Total Annual Burden Hours: 171 hours.

Estimated Cost: There is no annual reporting and recordkeeping cost associated with this collection.

Comments

Comments may be submitted as indicated in the ADDRESSES caption above. Comments are solicited to (a) Evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Gary L. Anderson,
Acting Chief Administrative Officer, Mission Support Bureau, Federal Emergency Management Agency, Department of Homeland Security.

[FR Doc. 2011-29468 Filed 11-14-11; 8:45 am]

BILLING CODE 9110-11-P